DEPARTMENT OF JUSTICE

Notice of Lodging of Consent Decree Under the Comprehensive Environmental Response, Compensation, and Liability Act

In accordance with Departmental policy, 38 CFR 50.7, and Section 122(d)(2) of the Comprehensive Environmental Response, Compensation, and Liability Act (“CERLA”), 42 U.S.C. 9622(d)(2), notice is hereby given that on September 29, 2005, a proposed Consent Decree (“Decree”) in United States v. Allied Oil & Supply Company et al, Civil Action No. 05-2419 was lodged with the United States District Court for the District of Kansas.

The Decree resolves claims of the United States against Allied Oil & Supply Co., Baker Petrolite Corp., Citgo Petroleum Corp., Chevron Environmental Management Co., Conocophillips Co., Cook Composites and Polymers Comp., Curran Paint and Varnish Company, Elementis Chemicals Inc., Harcros Chemicals Inc., Exxon Mobil Corp., Heathwood Oil Co., Inc., Mallinckrodt Inc., Pam Oil Inc., and 3M Co. (“Settling Defendants”) under Section 107(a) of CERCLA, 42 U.S.C. 9607(a), for recovery of response costs incurred by the United States Environmental Protection Agency (“EPA”) at the Container Recycling Superfund Site located in Kansas City, Kansas (“Site”). The Decree requires the Settling Defendants pay $1,127,000 in reimbursement of EPA's past response costs. EPA does not plan further response action at the Site.

The Department of Justice will receive for a period of thirty (30) days from the date of this publication comments relating to the Decree. Comments should be addressed to the Assistant Attorney General, Environment and Natural Resources Division, P.O. Box 7611, U.S. Department of Justice, Washington, DC 20044-7611, and should refer to United States v. Allied Oil & Supply Co., Civil Action No. 05-2419 (D. Kansas), D.J. Ref. No. 90-11-2-1322/4.

The Decree may be examined at the Office of the United States Attorney, District of Kansas, and at U.S. EPA Region VII, 901 N. 5th Street, Kansas City, Kansas 66101. During the public comment period, the Decree, may also be examined on the following Department of Justice Web site, http://www.usdoj.gov/enrd/open.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $7.75 (25 cents per page reproduction cost) payable to the U.S. Treasury.

Robert E. Maher, Jr.,
Assistant Chief, Environmental Enforcement Section, Environment and Natural Resources Division.

[FR Doc. 05-20934 Filed 10-18-05; 8:45 am]

BILLING CODE 4410-15-M